DEPARTMENT OF THE TREASURY

Office of Foreign Assets Control

Unblocking of Specially Designated Nationals and Blocked Persons, Foreign Narcotics Kingpin Designation Act

AGENCY: Office of Foreign Assets Control, Treasury.

ACTION: Notice.

SUMMARY: The Department of the Treasury's Office of Foreign Assets Control (OFAC) is publishing the names of five individuals and six entities whose property and interests in property have been unblocked pursuant to the Foreign Narcotics Kingpin Designation Act (Kingpin Act). Additionally, OFAC is publishing an update to the identifying information of one individual currently included in the list of Specially Designated Nationals and Blocked Persons (SDN List).

DATES: The unblocking and removal from the list of Specially Designated Nationals and Blocked Persons (SDN List) of the individuals and entities identified in this notice whose property and interests in property were blocked pursuant to the Kingpin Act, is effective on August 4, 2016. Additionally, the update to the SDN List of the identifying information of the individual identified in this notice is also effective on August 4, 2016.

FOR FURTHER INFORMATION CONTACT: Assistant Director, Sanctions Compliance & Evaluation, Department of the Treasury, Office of Foreign Assets Control, Washington, DC 20220, Tel: (202) 622-2490.

SUPPLEMENTARY INFORMATION:

Electronic and Facsimile Availability

This document and additional information concerning OFAC are available from OFAC's Web site at (www.treasury.gov/ofac) or via facsimile through a 24-hour fax-on demand service at (202) 622-0077.

Background

On December 3, 1999, the Kingpin Act (21 U.S.C. Sections 1901-1908, 8 U.S.C. Section 1182) was signed into law by the President of the United States. The Kingpin Act provides a statutory framework for the President to impose sanctions against significant foreign narcotics traffickers and their organizations on a worldwide basis, with the objective of denying their businesses and agents access to the U.S. financial system and to the benefits of trade and transactions involving U.S. persons and entities.

The Kingpin Act blocks all property and interests in property, subject to U.S. jurisdiction, owned or controlled by significant foreign narcotics traffickers as identified by the President or the Secretary of the Treasury. In addition, the Secretary of the Treasury consults with the Attorney General, the Director of the Central Intelligence Agency, the Director of the Federal Bureau of Investigation, the Administrator of the Drug Enforcement Administration, the Secretary of Defense, the Secretary of State, and the Secretary of Homeland Security when designating and blocking the property or interests in property, subject to U.S. jurisdiction, of persons or entities found to be: (1) Materially assisting in, or providing financial or technological support for or to, or providing goods or services in support of, the international narcotics trafficking activities of a person designated pursuant to the Kingpin Act; (2) owned, controlled, or directed by, or acting for or on behalf of, a person designated pursuant to the Kingpin Act; and/or (3) playing a significant role in international narcotics trafficking.

On August 4, 2016, the Associate Director of OFAC's Office of Global Targeting removed from the SDN List the individuals and entities listed below, whose property and interests in property was blocked pursuant to the Kingpin Act.

Individuals

1. GARCIA AYALA, Filemon, C Constitucion # 32, Col Rio Grande, Rio Grande, Zacatecas 98400, Mexico; Matamoros, Tamaulipas, Mexico; Rio Grande, Zacatecas, Mexico; DOB 28 Oct 1948; alt. DOB 26 Oct 1948; alt. DOB 27 Oct 1948; POB Loreto, Zacatecas, Mexico; Passport 160010455 (Mexico) issued 03 May 2002 expires 03 May 2012; C.U.R.P. GAAF481027HZSRYL07 (Mexico); alt. C.U.R.P. GAAF481026HTSRYL08 (Mexico) (individual) [SDNTK].

2. JAN, Haji Mohammad (a.k.a. BIN KUL MOHAMMED, Mohammad Jan), c/o CONNECT TELECOM GENERAL TRADING LLC, Dubai, United Arab Emirates; c/o GREEN LEAF GENERAL TRADING LLC, Dubai, United Arab Emirates; DOB 07 Oct 1969; alt. DOB 1968; POB Kandahar, Afghanistan; citizen Afghanistan; National ID No. 1090876 (Afghanistan) (individual) [SDNTK].

3. RAMIREZ BONILLA, Gloria Ines, c/o C.I. STONES AND BYPRODUCTS TRADING S.A., Bogota, Colombia; c/o C.I. AGROINDUSTRIAL DE MATERIAS PRIMAS ORGANICAS LTDA, Bogota, Colombia; c/o JUAN SEBASTIAN Y CAMILA ANDREA JIMENEZ RAMIREZ Y CIA S.C.S., Bogota, Colombia; DOB 28 Jan 1969; citizen Colombia; Cedula No. 65552011 (Colombia) (individual) [SDNTK].

4. RUBIO ZAGA, Jesus Roman, c/o ILC EXPORTACIONES, S. DE R.L. DE C.V., Mexico, Distrito Federal, Mexico; DOB 28 Aug 1973; POB Coyoacan, Distrito Federal, Mexico; nationality Mexico; citizen Mexico; C.U.R.P. RUZJ730828HDFBGS08 (Mexico) (individual) [SDNTK].

5. RUIZ MADRID, Adriana Maria; DOB 14 Dec 1968; POB Envigado, Antioquia, Colombia; citizen Colombia; Cedula No. 42897418 (Colombia) (individual) [SDNTK] (Linked To: CARYTES ENCANTO Y BELLEZA).

Entities

1. CARYTES ENCANTO Y BELLEZA, Calle 6AS 43 A LC 3188, Medellin, Colombia; Centro Comercial Oviedo, Local 3188, El Poblado, Medellin, Colombia; Matricula Mercantil No 40551702 (Medellin) [SDNTK].

2. INTERNACIONAL & NACIONAL EXCHANGE SERVICES, INC., Pharr, TX, United States; Business Registration Document # 801199276 (Texas); Tax ID No. 32040757414 [SDNTK].

3. PRODIRA CASA DE CAMBIO, ACTIVIDAD AUXILIAR DEL CREDITO S.A. DE C.V., Blvd. La Florida 3-A, Colonia La Florida, Guadalupe, Zacatecas 98618, Mexico; R.F.C. PCC031010989 (Mexico) issued 18 Dec 2003 [SDNTK].

4. PRODIRA S.A. DE C.V., CASA DE CAMBIO, ACTIVIDAD DEL CREDITO (a.k.a. PRODIRA CASA DE CAMBIO INCORPORATED), Pharr, TX, United States; Business Registration Document # 801041970 (Texas); Tax ID No. 32038179357 [SDNTK].

5. PRODIRA, INC., Aurora, CO, United States; Phoenix, AZ, United States; Des Moines, IA, United States; Pharr, TX, United States; Business Registration Document # F-853615-0 (Arizona); alt. Business Registration Document # 20011210699 (Colorado); alt. Business Registration Document # 335187 (Iowa); alt. Business Registration Document # 148693800 (Texas); Tax ID No. 17428803666 [SDNTK].

6. TRASTREVA S.A. DE C.V., Av. La Florida 3, La Florida, Guadalupe, Zacatecas 98610, Mexico; Cedula No. DLC/P/152/2011 (Mexico); R.F.C. TRA0010109E4 (Mexico) [SDNTK].

Additionally, on August 4, 2016, the Associate Director of OFAC's Office of Global Targeting updated the SDN List for one individual listed below, whose property and interests in property continue to be blocked pursuant to the Kingpin Act.

Individual

LEAL GARCIA, Ignacio (a.k.a. “CAMILO”; a.k.a. “TUERTO”); nationality Colombia; citizen Colombia; Cedula No. 96186610 (Colombia) (individual) [SDNTK].

—to—

LEAL GARCIA, Ignacio (a.k.a. “CAMILO”; a.k.a. “TUERTO”); DOB 26 Jul 1969; nationality Colombia; citizen Colombia; Cedula No. 96186610 (Colombia) (individual) [SDNTK].

Dated: August 4, 2016.
Gregory T. Gatjanis,
Associate Director, Office of Global Targeting, Office of Foreign Assets Control.

[FR Doc. 2016-18844 Filed 8-8-16; 8:45 am]

BILLING CODE 4810-AL-P